FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants

Sunspeed Transportation, 11421 E. Carson Street, Ste. R, Lakewood, CA 90715.

Officer: Delio S. Silvestre, Jr., Sole Proprietor.

LGS Logistic Inc., 804 E. Mabel Ave., Monterey Park, CA 90755.

Officer: Gary Yenkok Tan, CEO, (Qualifying Individual).

Tianjin Consol International Inc., dba United Consol Line Inc., 1255 Corporate Center Drive, #407, Monterey Park, CA 91754.

Officers: Sze Sze Chan, Corporate Secretary, (Qualifying Individual), John Kuo Chow, Director/CEO.

Lusfab International Inc., 8231 NW. 68 Street, Miami, FL 33166.

Officers: Luis E. Suarez, Director, (Qualifying Individual), Pedro Figueredo, President.

Non-Vessel—Operating Common Carrier and Ocean Freight Forwarder Transportation Intermediary Applicants

Elle Logistics, Inc., 1962 NW. 82 Avenue, Miami, FL 33126.

Officers: Aymee Areu, President, (Qualifying Individual), Jaime Salinas, Treasurer.

Leaman Logistics, LLC, 1777 Sentry Parkway West, Abington Hall, Suite 300, Blue Bell, PA 19422.

Officers: Ronald M. Keegan, Vice President, (Qualifying Individual), J. Stephen Hamilton, CEO.

Dated: October 13, 2006.
Karen V. Gregory,
Assistant Secretary.

[FR Doc. E6-17360 Filed 10-17-06; 8:45 am]

BILLING CODE 6730-01-P